DEPARTMENT OF TRANSPORTATION

National Highway Traffic Safety Administration

[Docket No. NHTSA-2014-0083; Notice 1]

China Manufacturers Alliance, LLC, Receipt of Petition for Decision of Inconsequential Noncompliance

AGENCY: National Highway Traffic Safety Administration (NHTSA), Department of Transportation (DOT).

ACTION: Receipt of petition.

SUMMARY: China Manufacturers Alliance, LLC (CMA) and Double Coin Holdings, Ltd (DCHL) have determined that certain Double Coin and Dynatrac brand truck & bus radial replacement tires that were imported by CMA and manufactured by DCHL do not fully comply with paragraph S6.5 of Federal Motor Vehicle Safety Standard (FMVSS) No. 119, New Pneumatic Tires for Motor Vehicles with a GVWR of More Than 4,536 Kilograms (10,000 Pounds) and Motorcycles. CMA and DCHL filed an appropriate report dated June 17, 2014, pursuant to 49 CFR part 573, Defect and Noncompliance Responsibility and Reports.

DATES: The closing date for comments on the petition is October 15, 2014.

ADDRESSES: Interested persons are invited to submit written data, views, and arguments on this petition. Comments must refer to the docket and notice number cited at the beginning of this notice and be submitted by any of the following methods:

• Mail: Send comments by mail addressed to: U.S. Department of Transportation, Docket Operations, M-30, West Building Ground Floor, Room W12-140, 1200 New Jersey Avenue SE., Washington, DC 20590.

• Hand Deliver: Deliver comments by hand to: U.S. Department of Transportation, Docket Operations, M-30, West Building Ground Floor, Room W12-140, 1200 New Jersey Avenue SE., Washington, DC 20590. The Docket Section is open on weekdays from 10 a.m. to 5 p.m. except Federal Holidays.

• Electronically: Submit comments electronically by: logging onto the Federal Docket Management System (FDMS) Web site at http://www.regulations.gov/. Follow the online instructions for submitting comments. Comments may also be faxed to (202) 493-2251.

Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided.

Documents submitted to a docket may be viewed by anyone at the address and times given above. The documents may also be viewed on the Internet at http://www.regulations.gov by following the online instructions for accessing the dockets. DOT's complete Privacy Act Statement is available for review in the Federal Register published on April 11, 2000, (65 FR 19477-78).

The petition, supporting materials, and all comments received before the close of business on the closing date indicated below will be filed and will be considered. All comments and supporting materials received after the closing date will also be filed and will be considered to the extent possible. When the petition is granted or denied, notice of the decision will be published in the Federal Register pursuant to the authority indicated below.

SUPPLEMENTARY INFORMATION:

I. CMA and DCHL's Petition: Pursuant to 49 U.S.C. 30118(d) and 30120(h) (see implementing rule at 49 CFR part 556), CMA and DCHL submitted a petition for an exemption from the notification and remedy requirements of 49 U.S.C. Chapter 301 on the basis that this noncompliance is inconsequential to motor vehicle safety.

This notice of receipt of CMA and DCHL's petition is published under 49 U.S.C. 30118 and 30120 and does not represent any agency decision or other exercise of judgment concerning the merits of the petition.

II. Replacement Tires Involved: Affected are approximately 1,753,089 Double Coin and Dynatrac brand truck & bus radial (TBR) replacement tires that were imported by CMA and manufactured by DCHL tires from June 2011 to June 2014 (DOT date codes 2711 to 2614). Refer to CMA and DCHL's 49 CFR part 573 report for descriptions of the tire sizes and other specifics.

III. Noncompliance: CMA and DCHL describe the noncompliance as the inadvertent omission of the letter marking that designates the tire Load Range from the tire sidewall.

IV. Rule Text: Paragraph S6.5 of FMVSS No. 119 requires in pertinent part:

S6.5 Tire markings. Except as specified in this paragraph, each tire shall be marked on each sidewall with the information specified in paragraphs (a) through (j) of this section. The markings shall be placed between the maximum section width (exclusive of sidewall decorations or curb ribs) and the bead on at least one sidewall, unless the maximum section width of the tire is located in an area which is not more than one-fourth of the distance from the bead to the shoulder of the tire. If the maximum section width falls within that area, the markings shall appear between the bead and a point one-half the distance from the bead to the shoulder of the tire, on at least one sidewall. The markings shall be in letters and numerals not less than 2 mm (0.078 inch) high and raised above or sunk below the tire surface not less that 0.4 mm (0.015 inch), except that the marking depth shall be not less than 0.25mm (0.010 inch) in the case of motorcycle tires. The tire identification and the DOT symbol labeling shall comply with part 574 of this chapter. Markings may appear on only one sidewall and the entire sidewall area may be used in the case of motorcycle tires and recreational, boat, baggage, and special trailer tires. . . .

(j) The letter designating the tire load range.

V. Summary of CMA and DCHL's Analyses: CMA and DCHL stated their belief that the subject noncompliance is inconsequential to motor vehicle safety for the following reasons:

1. CMA has certified that the subject tires are fully compliant to all requirements of FMVSS No. 119 except for the aforementioned omission issue. The tires are manufactured to the specifications and are able to carry the specified weight designed for these tires and as mandated by FMVSS No. 119.

2. CMA stated that NHTSA tested two samples from the tires in question for endurance and found them to comply with the required standards of FMVSS No. 119, and that in addition to the S6.5 required markings, CMA also includes redundant safety markings on some of the most critical criterion of a TBR tire. With FMVSS No. 119 requiring items S6.5 (a-j) as mandatory, CMA also lists data that assists dealers/consumers in recognizing the tire's abilities and performance. Included on the sidewall of these tires, but not mandatory requirements by FMVSS No. 119, are Load Index for both single and dual placement of the tire, Ply Rating and Speed Rating.

3. CMA believes that Load Index is a redundant data point for Load Range. Both measure the important max load/max pressure data required on the tire sidewall. In addition, the Tire and Rim Association (TRA) data book lists a conversion chart as to Load Range and Ply Rating correlation. Thus, the information that the Load Range letter is meant to convey is already included on the tire in two other ways, i.e. Load Index and Ply Rating.

4. CMA has certified that the subject tires have been properly manufactured to the requirements of FMVSS No. 119 including all static and dynamic requirements and design requirements for max load requirements as well as additional information for consumers to review that correlate to load range so the noncompliance is one of format of the markings.

5. CMA believes that there is little to no risk of overloading by an end-user because of the inclusion of the Load Index and Ply Ratings. Even in the absence of the Load Range, an end-user would have to ignore the max load/max pressure data on the tire and the ply rating in order to create a risk as to motor vehicle safety.

6. CMA also believes that because the tires in question meet the performance standards of FMVSS No. 119, and the information conveyed by the Load Range is imparted to end-users by both the required Load Index and the optional Ply Rating, the absence of the Load Range on these tires is inconsequential as to motor vehicle safety.

CMA and DCHL has additionally informed NHTSA that it has corrected the noncompliance so that all future production replacement tires will comply with FMVSS No. 119.

In summation, CMA and DCHL believe that the described noncompliance of the subject replacement tires is inconsequential to motor vehicle safety, and that its petition, to exempt CMA and DCHL's from providing recall notification of noncompliance as required by 49 U.S.C. 30118 and remedying the recall noncompliance as required by 49 U.S.C. 30120 should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject replacement tires that CMA and DCHL no longer controlled at the time that it determined that the noncompliance existed. However, any decision on this petition does not relieve replacement tire distributors and dealers of the prohibitions on the sale, offer for sale, or introduction or delivery for introduction into interstate commerce of the noncompliant replacement tires under their control after CMA and DCHL notified them that the subject noncompliance existed.

Authority: 49 U.S.C. 30118, 30120: delegations of authority at 49 CFR 1.95 and 501.8.

Jeffrey M. Giuseppe,
Acting Director, Office of Vehicle Safety Compliance.

[FR Doc. 2014-21883 Filed 9-12-14; 8:45 am]

BILLING CODE 4910-59-P